DEPARTMENT OF TRANSPORTATION

Federal Aviation Administration

Announcement of Receipt of Notice To Extend Public Comment Period on Proposed Restriction on Operations of Stage 2 and 3 Aircraft at Flying Cloud Airport, Eden Prairie, MN

AGENCY: Federal Aviation Administration (FAA), DOT.

ACTION: Notice.

SUMMARY: The Federal Aviation Administration (FAA) has been notified by the Metropolitan Airports Commission (MAC) that it is extending the public comment period from August 30, 2000, to October 16, 2000, regarding its proposal to restrict jet aircraft not meeting Federal Aviation Regulation (FAR) Part 36 stage 3 requirements from using the Flying Cloud Airport between the nighttime hours of 2200 and 0600 local time, and to restrict nighttime maintenance run-ups for all aircraft between the nighttime hours of 2200 and 0600 local time. An initial announcement of proposed restriction on Stage 2 and 3 operations at Flying Cloud Airport was published by FAA in the Federal Register on August 4, 2000.

The MAC has provided notice of the proposed restriction and an opportunity to comment to the public pursuant to the Airport Noise and Capacity Act of 1990 and Federal Aviation Regulation, Part 161. Notice of the proposed restrictions and availability of the analysis was locally published by the MAC on July 11, 2000. A public hearing on the proposed restrictions was held at 7 PM on August 15, 2000, in the auditorium of the Hennepin Technical College, 9200 Flying Cloud Drive, Eden Prairie, MN. The public comment period is extended from August 30, 2000, to October 16, 2000.

FOR FURTHER INFORMATION CONTACT: Mark Ryan, Metropolitan Airports Commission, 2901 Metro Drive, Suite 525, Bloomington, MN 55425; Phone: (612) 726-8129; Fax: (612) 794-4407. These documents are also available for public inspection at the above address.

Issued in Minneapolis, MN, on August 29, 2000.
Robert A. Huber,
Acting Manager, Minneapolis Airports District Office, Great Lakes Region.

[FR Doc. 00-23179 Filed 9-8-00; 8:45 am]

BILLING CODE 4910-13-M